DEPARTMENT OF TRANSPORTATION

Federal Aviation Administration

14 CFR Part 39

[Docket No. FAA-2012-0327; Directorate Identifier 2011-NM-125-AD; Amendment 39-17198; AD 2012-19-03]

RIN 2120-AA64

Airworthiness Directives; The Boeing Company Airplanes

AGENCY: Federal Aviation Administration (FAA), DOT.

ACTION: Final rule.

SUMMARY: We are superseding an existing airworthiness directive (AD) for certain The Boeing Company Model DC-10-10, DC-10-10F, DC-10-15, DC-10-30, DC-10-30F (KC-10A and KDC-10), DC-10-40, DC-10-40F, MD-10-10F, and MD-10-30F airplanes. That AD currently requires installing or replacing with improved parts, as applicable, the bonding straps between the metallic frame of the fillet and the wing leading edge ribs, on both the left and right sides of the airplane; and for certain airplanes, repositioning or replacing two bonding straps, doing a bonding-resistance check and an inspection to determine correct installation of certain bonding straps, and applicable corrective actions. This new AD adds airplanes to the applicability and, depending on the airplane configuration, requires installing new braided bonding straps, inspecting to determine if a certain strap is installed and replacing with or installing a braided bonding strap if necessary, measuring the electrical resistance of the bonding straps, verifying that brackets have an acceptable fillet seal, and doing corrective actions if necessary. This AD was prompted by fuel system reviews conducted by the manufacturer, and our determination that additional actions are necessary to address the identified unsafe condition. We are issuing this AD to reduce the potential of ignition sources inside fuel tanks in the event of a severe lightning strike, which, in combination with flammable fuel vapors, could result in fuel tank explosions and consequent loss of the airplane.

DATES: This AD is effective November 5, 2012.

The Director of the Federal Register approved the incorporation by reference of certain publications listed in the AD as of November 5, 2012.

The Director of the Federal Register approved the incorporation by reference of a certain other publication listed in this AD as of February 4, 2010 (74 FR 69268, December 31, 2009).

The Director of the Federal Register approved the incorporation by reference of a certain other publication listed in this AD of September 7, 2006 (71 FR 43962, August 3, 2006).

ADDRESSES: For service information identified in this AD, contact Boeing Commercial Airplanes, Attention: Data & Services Management, 3855 Lakewood Boulevard, MC D800-0019, Long Beach, California 90846-0001; telephone 206-544-5000, extension 2; fax 206-766-5683; Internet https://www.myboeingfleet. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Samuel Lee, Aerospace Engineer, Propulsion Branch, ANM-140L, FAA, Los Angeles Aircraft Certification Office, 3960 Paramount Boulevard, Lakewood, California 90712-4137; phone: 562-627-5262; fax: 562-627-5210; email: Samuel.Lee@faa.gov.

SUPPLEMENTARY INFORMATION:

Discussion

We issued a notice of proposed rulemaking (NPRM) to amend 14 CFR part 39 to supersede AD 2009-26-17, Amendment 39-16156 (74 FR 69268, December 31, 2009). That AD applies to the specified products. The NPRM published in the Federal Register on March 28, 2012 (77 FR 18719). That NPRM proposed to continue to require installing or replacing with improved parts, as applicable, the bonding straps between the metallic frame of the fillet and the wing leading edge ribs, on both the left and right sides of the airplane. That NPRM also proposed to continue to require, for certain airplanes, repositioning or replacing two bonding straps, doing a bonding-resistance check and an inspection to determine correct installation of certain bonding straps, and applicable corrective actions. That NPRM also proposed to add airplanes to the applicability, and depending on the airplane configuration, installing new braided bonding straps, inspecting to determine if a certain strap is installed and replacing with or installing a braided bonding strap if necessary, measuring the electrical resistance of the bonding straps, verifying that brackets have an acceptable fillet seal, and doing corrective actions if necessary.

Comments

We gave the public the opportunity to participate in developing this AD. The following presents the comments received on the proposal (77 FR 18719, March 28, 2012) and the FAA's response to each comment.

Request To Add Credit for Previous Actions

FedEx requested that previous actions accomplished on 51 of its airplanes using Boeing Service Bulletin DC10-53-111, Revision 4, dated September 21, 2006; or Boeing Service Bulletin DC10-53-111, Revision 7, dated March 16, 2011; be acceptable as terminating action for the actions specified in paragraph (j) of the NPRM (77 FR 18719, March 28, 2012).

We partially agree. We agree that the actions are acceptable, but do not agree to change the AD. We disagree that credit for previous actions should be added to the AD. Paragraphs (m)(3) and (m)(4) of this AD already allow previous accomplishment of the actions specified in paragraphs (g), (h), (i), and (j) of this AD, if those actions were done using alternative methods of compliance (AMOCs) approved in accordance with AD 2006-16-03, Amendment 39-14703 (71 FR 43962, August 3, 2006); and AD 2009-26-17, Amendment 39-16156 (74 FR 69268, December 31, 2009). Boeing Service Bulletin DC10-53-111, Revision 4, dated September 21, 2006, states that it is approved as an AMOC for AD 2006-16-03. We have not changed the final rule in this regard.

Request To Combine Paragraphs

FedEx suggested that paragraphs (l)(3) and (l)(4) of the NPRM (77 FR 18719, March 28, 2012) be combined since they state the same thing.

We do not agree to combine paragraphs (l)(3) and (l)(4) of this AD, because those paragraphs state different requirements for different airplanes. We have not changed the final rule in this regard.

Request To Correct Effectivity

FedEx stated that Boeing Service Bulletin DC10-53-111, Revision 7, dated March 16, 2011, incorrectly specifies that the reason for the revision was to add fuselage 317 to the effectivity of that service bulletin. FedEx stated that fuselage 317 was not and does not need to be added to the effectivity of that service bulletin, because fuselage 317 is in the effectivity of Boeing Service Bulletin DC10-53-109, Revision 8, dated March 10, 2011.

We infer that FedEx is requesting that Boeing Service Bulletin DC10-53-111, Revision 7, dated March 16, 2011, be revised to correct the discrepancy in the stated reason for the revision of that service bulletin. We do not agree. Boeing issued Service Bulletin Information Notice DC10-53-111 IN 02, dated June 17, 2011, to clarify that fuselage 317 was not added to the effectivity of Boeing Service Bulletin DC10-53-111, Revision 7, dated March 16, 2011. No change to this final rule is necessary in this regard.

Explanation of Additional Changes Made To This AD

We have revised certain headings throughout this AD.

Conclusion

We reviewed the relevant data, considered the comments received, and determined that air safety and the public interest require adopting the AD as proposed except for minor editorial changes. We have determined that these minor changes:

• Are consistent with the intent that was proposed in the NPRM (77 FR 18719, March 28, 2012) for correcting the unsafe condition; and

• Do not add any additional burden upon the public than was already proposed in the NPRM (77 FR 18719, March 28, 2012).

Costs of Compliance

We estimate that this AD affects 208 airplanes of U.S. registry.

We estimate the following costs to comply with this AD:

Estimated Costs
Action | Labor cost | Parts cost | Cost per product | Cost on U.S. operators
Installation, inspection, and resistance measurement [retained actions from existing AD 2009-26-17, Amendment 39-16156 (74 FR 69268, December 31, 2009)] | Up to 17 work-hours × $85 per hour = $1,445 | Up to $4,169 | Up to $5,614 | Up to $1,167,712.
Installation, inspection, and resistance measurement [new action] | Up to 16 work-hours × $85 per hour = $1,360 | Up to $33,230 | Up to $34,590 | Up to $7,194,720.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-26-17, Amendment 39-16156 (74 FR 69268, December 31, 2009), and adding the following new AD:

2012-19-03 The Boeing Company: Amendment 39-17198; Docket No. FAA-2012-0327; Directorate Identifier 2011-NM-125-AD.

(a) Effective Date

This airworthiness directive (AD) is effective November 5, 2012.

(b) Affected ADs

This AD supersedes AD 2009-26-17, Amendment 39-16156 (74 FR 69268, December 31, 2009).

(c) Applicability

This AD applies to The Boeing Company Model DC-10-10, DC-10-10F, DC-10-15, DC-10-30, DC-10-30F (KC-10A and KDC-10), DC-10-40, and DC-10-40F airplanes, and Model MD-10-10F and MD-10-30F airplanes that have been converted from Model DC-10 series airplanes; certificated in any category; as identified in paragraphs (c)(1) and (c)(2) of this AD, as applicable.

(1) Boeing Service Bulletin DC10-53-109, Revision 8, dated March 10, 2011 (for airplanes with extended wing-to-fuselage fillets).

(2) Boeing Service Bulletin DC10-53-111, Revision 7, dated March 16, 2011 (for airplanes with conventional wing-to-fuselage fillets).

(d) Subject

Joint Aircraft System Component (JASC)/Air Transport Association (ATA) of America Code 53, Fuselage.

(e) Unsafe Condition

This AD was prompted by fuel system reviews conducted by the manufacturer, and our determination that additional actions are necessary to address the identified unsafe condition. We are issuing this AD to reduce the potential of ignition sources inside fuel tanks in the event of a severe lightning strike, which, in combination with flammable fuel vapors, could result in fuel tank explosions and consequent loss of the airplane.

(f) Compliance

Comply with this AD within the compliance times specified, unless already done.

(g) Retained Requirements for Installation or Replacement for Certain Airplanes, With New Service Information

This paragraph restates the installation or replacement requirements of paragraph (g) of AD 2009-26-17, Amendment 39-16156 (74 FR 69268, December 31, 2009), with new service information. For airplanes with manufacturer's fuselage numbers identified in the applicable service bulletin listed in paragraph (g)(1) of this AD: Within 7,500 flight hours or 60 months after September 7, 2006 (the effective date of AD 2006-16-03, Amendment 39-14703 (71 FR 43962, August 3, 2006)), whichever occurs earlier: Install or replace with improved parts, as applicable, the bonding straps between the metallic frame of the fillet and the wing leading edge ribs, on both the left and right sides of the airplane, in accordance with the Accomplishment Instructions of the applicable service bulletin identified in paragraph (g)(1), (g)(2), or (g)(3) of this AD. After February 4, 2010 (the effective date of AD 2009-26-17), use the applicable service bulletin identified in paragraph (g)(2) or (g)(3) of this AD. After the effective date of this AD, use only the applicable service bulletin identified in paragraph (g)(3) of this AD to do the actions required by this paragraph.

(1) McDonnell Douglas DC-10 Service Bulletin 53-109, Revision 4, dated October 7, 1992 (for airplanes with extended wing-to-fuselage fillets); or McDonnell Douglas DC-10 Service Bulletin 53-111, Revision 3, dated August 24, 1992 (for airplanes with conventional wing-to-fuselage fillets).

(2) Boeing Service Bulletin DC10-53-109, Revision 7, dated March 3, 2009 (for airplanes with extended wing-to-fuselage fillets); or Boeing Service Bulletin DC10-53-111, Revision 6, dated March 3, 2009 (for airplanes with conventional wing-to-fuselage fillets).

(3) Boeing Service Bulletin DC10-53-109, Revision 8, dated March 10, 2011 (for airplanes with extended wing-to-fuselage fillets); or Boeing Service Bulletin

DC10-53-111, Revision 7, dated March 16, 2011 (for airplanes with conventional wing-to-fuselage fillets).

(h) Retained Requirements for Installation or Replacement for Certain Other Airplanes, With New Service Information

This paragraph restates the installation or replacement requirements of paragraph (h) of AD 2009-26-17, Amendment 39-16156 (74 FR 69268, December 31, 2009), with new service information. For airplanes with fuselage numbers identified in the applicable service bulletin listed in paragraph (g)(2) of this AD that are not also identified in the applicable service bulletin listed in paragraph (g)(1) of this AD, except for airplanes identified in paragraph (i) or (j) of this AD: Within 7,500 flight hours or 60 months, whichever occurs first after February 4, 2010 (the effective date of AD 2009-26-17), install or replace with improved parts, as applicable, the bonding straps between the metallic frame of the fillet and the wing leading edge ribs, on both the left and right sides of the airplane. Do the actions in accordance with the Accomplishment Instructions of the applicable service bulletin identified in paragraph (g)(2) or (g)(3) of this AD. After the effective date of this AD, use only the applicable service bulletin identified in paragraph (g)(3) of this AD to do the actions required by this paragraph.

(i) Retained Requirements for Strap Repositioning for Certain Airplanes, With New Service Information

This paragraph restates the strap repositioning requirements of paragraph (i) of AD 2009-26-17, Amendment 39-16156 (74 FR 69268, December 31, 2009), with new service information. For Group 1-4, Configuration 3 airplanes, as identified in Boeing Service Bulletin DC10-53-109, Revision 7, dated March 3, 2009: Within 7,500 flight hours or 60 months after February 4, 2010 (the effective date of AD 2009-26-17), whichever occurs first, do the actions specified in paragraphs (i)(1) and (i)(2) of this AD.

(1) Remove two braided bonding straps and install two longer braided bonding straps between the metallic frame of the fillet and the wing leading edge ribs, in accordance with the Accomplishment Instructions of Boeing Service Bulletin DC10-53-109, Revision 7, dated March 3, 2009; or Boeing Service Bulletin DC10-53-109, Revision 8, dated March 10, 2011. After the effective date of this AD, use only Boeing Service Bulletin DC10-53-109, Revision 8, dated March 10, 2011, to do the actions required by this paragraph.

(2) Measure the resistance of the previously installed bonding straps and, before further flight, do all applicable corrective actions, in accordance with the Accomplishment Instructions of Boeing Service Bulletin DC10-53-109, Revision 7, dated March 3, 2009; or Boeing Service Bulletin DC10-53-109, Revision 8, dated March 10, 2011. After the effective date of this AD, use only Boeing Service Bulletin DC10-53-109, Revision 8, dated March 10, 2011, to do the actions required by this paragraph.

(j) Retained Requirements for Inspection and Corrective Action for Certain Airplanes, With New Service Information

This paragraph restates the inspection requirements of paragraph (j) of AD 2009-26-17, Amendment 39-16156 (74 FR 69268, December 31, 2009), with new service information. For Group 1-2, Configuration 2 airplanes, as identified in Boeing Service Bulletin DC10-53-111, Revision 6, dated March 3, 2009: Within 7,500 flight hours or 60 months after February 4, 2010 (the effective date of AD 2009-26-17), whichever occurs first, do the actions specified in paragraphs (j)(1) and (j)(2) of this AD.

(1) Do a general visual inspection to verify correct installation of the braided bonding straps (one left-hand wing and one right-hand wing) as shown in Sheet 7 in Figure 3 of Boeing Service Bulletin DC10-53-111, Revision 6, dated March 3, 2009, or Boeing Service Bulletin DC10-53-111, Revision 7, dated March 16, 2011; and, before further flight, do all applicable corrective actions, in accordance with the Accomplishment Instructions of Boeing Service Bulletin DC10-53-111, Revision 6, dated March 3, 2009, or Boeing Service Bulletin DC10-53-111, Revision 7, dated March 16, 2011. After the effective date of this AD, use only Boeing Service Bulletin DC10-53-111, Revision 7, dated March 16, 2011, to do the actions required by this paragraph.

(2) Measure the resistance of the previously installed bonding straps and, before further flight, do all applicable corrective actions, in accordance with the Accomplishment Instructions of Boeing Service Bulletin DC10-53-111, Revision 6, dated March 3, 2009; or Boeing Service Bulletin DC10-53-111, Revision 7, dated March 16, 2011. After the effective date of this AD, use only Boeing Service Bulletin DC10-53-111, Revision 7, dated March 16, 2011, to do the actions required by this paragraph.

(k) Credit for Previous Actions

This paragraph provides credit for the actions required by paragraphs (g), (h), (i), and (j) this AD, if those actions were accomplished before February 4, 2010 (the effective date of AD 2009-26-17, Amendment 39-16156 (74 FR 69268, December 31, 2009)), using Boeing Service Bulletin DC10-53-111, Revision 5, dated March 19, 2008; or Boeing Service Bulletin DC10-53-109, Revision 6, dated July 10, 2008; as applicable; which are not incorporated by reference.

(l) New Installation and Corrective Actions for Certain Airplanes

Within 7,500 flight hours or 60 months after the effective date of this AD, whichever comes first: Do the applicable actions specified in paragraphs (l)(1) through (l)(6) of this AD, as applicable.

(1) For Group 1-4, Configurations 1 and 2 airplanes, as identified in Boeing Service Bulletin DC10-53-109, Revision 8, dated March 10, 2011, except airplanes that are identified in paragraph (g) of this AD: Remove any solid metal bonding straps and install seven new braided bonding straps, in accordance with the Accomplishment Instructions of Boeing Service Bulletin DC10-53-109, Revision 8, dated March 10, 2011.

(2) For Group 1-4, Configurations 1 and 2 airplanes, as identified in Boeing Service Bulletin DC10-53-109, Revision 8, dated March 10, 2011, that are also identified in paragraph (g) of this AD: Remove any solid metal bonding straps not removed during the actions required by paragraph (g) of this AD and install a 7th new braided bonding strap (paragraph (g) of this AD requires installing 6 straps), in accordance with the Accomplishment Instructions of Boeing Service Bulletin DC10-53-109, Revision 8, dated March 10, 2011.

(3) For Group 1-4, Configuration 3 airplanes, as identified in Boeing Service Bulletin DC10-53-109, Revision 8, dated March 10, 2011, except airplanes identified in paragraph (i) of this AD: Do the actions specified in paragraphs (l)(3)(i) and (l)(3)(ii) of this AD.

(i) Replace one strap with new braided bonding strap, inspect to determine the existence of an installed solid metal bonding strap and replace any missing strap and any solid metal bonding strap with a new braided bonding strap, in accordance with the Accomplishment Instructions of Boeing Service Bulletin DC10-53-109, Revision 8, dated March 10, 2011.

(ii) Measure the electrical resistance across each bonding joint of the six previously-installed braided strap assemblies and verify that brackets have an acceptable fillet seal, and do all applicable corrective actions, in accordance with the Accomplishment Instructions of Boeing Service Bulletin DC10-53-109, Revision 8, dated March 10, 2011. Do all applicable corrective actions before further flight.

(4) For Group 1-4, Configuration 3 airplanes, as identified in Boeing Service Bulletin DC10-53-109, Revision 8, dated March 10, 2011, that are also identified in paragraph (i) of this AD: Do the actions specified in paragraphs (l)(4)(i) and (l)(4)(ii) of this AD.

(i) Inspect to determine the existence of an installed solid metal bonding strap and replace any missing strap and any solid metal bonding strap with a new braided bonding strap, in accordance with the Accomplishment Instructions of Boeing Service Bulletin DC10-53-109, Revision 8, dated March 10, 2011.

(ii) Measure the electrical resistance across each bonding joint of the six previously-installed braided strap assemblies and verify that brackets have an acceptable fillet seal, and do all applicable corrective actions, in accordance with the Accomplishment Instructions of Boeing Service Bulletin DC10-53-109, Revision 8, dated March 10, 2011. Do all applicable corrective actions before further flight.

(5) For Group 1-4, Configuration 4 airplanes, as identified in Boeing Service Bulletin DC10-53-109, Revision 8, dated March 10, 2011: Do the actions specified in paragraphs (l)(5)(i) and (l)(5)(ii) of this AD.

(i) Inspect to determine the existence of an installed solid metal bonding strap, and replace any missing strap and any solid metal bonding strap with a new braided bonding strap, in accordance with the Accomplishment Instructions of Boeing Service Bulletin DC10-53-109, Revision 8, dated March 10, 2011.

(ii) Measure the electrical resistance across each bonding joint of the six previously-installed braided strap assemblies and verify that brackets have an acceptable fillet seal, and do all applicable corrective actions, in accordance with the Accomplishment Instructions of Boeing Service Bulletin DC10-53-109, Revision 8, dated March 10, 2011. Do all applicable corrective actions before further flight.

(6) For Group 1-4, Configuration 5 airplanes, as identified in Boeing Service Bulletin DC10-53-109, Revision 8, dated March 10, 2011: Inspect to determine the existence of an installed solid metal bonding strap, and replace any missing strap and any solid metal bonding strap with a new braided bonding strap, in accordance with the Accomplishment Instructions of Boeing Service Bulletin DC10-53-109, Revision 8, dated March 10, 2011.

(m) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(3) AMOCs approved previously in accordance with AD 2006-16-03, Amendment 39-14703 (71 FR 43962, August 3, 2006), are approved as AMOCs for the corresponding provisions of paragraphs (g), (h), (i), and (j) of this AD.

(4) AMOCs approved previously in accordance with AD 2009-26-17, Amendment 39-16156 (74 FR 69268, December 31, 2009), are approved as AMOCs for the corresponding provisions of paragraphs (g), (h), (i), and (j) of this AD.

(n) Related Information

(1) For more information about this AD, contact Samuel Lee, Aerospace Engineer, Propulsion Branch, ANM-140L, FAA, Los Angeles Aircraft Certification Office, 3960 Paramount Boulevard, Lakewood, California 90712-4137; phone: 562-627-5262; fax: 562-627-5210; email: Samuel.Lee@faa.gov.

(2) For service information specified in this AD that is not incorporated by reference, contact Boeing Commercial Airplanes, Attention: Data & Services Management, 3855 Lakewood Boulevard, MC D800-0019, Long Beach, California 90846-0001; telephone 206-544-5000, extension 2; fax 206-766-5683; Internet https://www.myboeingfleet.

(o) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on November 5, 2012.

(i) Boeing Service Bulletin DC10-53-109, Revision 8, dated March 10, 2011.

(ii) Boeing Service Bulletin DC10-53-111, Revision 7, dated March 16, 2011.

(4) The following service information was approved for IBR on February 4, 2010 (74 FR 69268, December 31, 2009).

(i) Boeing Service Bulletin DC10-53-109, Revision 7, dated March 3, 2009.

(ii) Boeing Service Bulletin DC10-53-111, Revision 6, dated March 3, 2009.

(5) The following service information was approved for IBR on September 7, 2006 (71 FR 43962, August 3, 2006).

(i) McDonnell Douglas DC-10 Service Bulletin 53-109, Revision 4, dated October 7, 1992.

(ii) McDonnell Douglas DC-10 Service Bulletin 53-111, Revision 3, dated August 24, 1992.

(6) For service information identified in this AD, contact Boeing Commercial Airplanes, Attention: Data & Services Management, 3855 Lakewood Boulevard, MC D800-0019, Long Beach, California 90846-0001; telephone 206-544-5000, extension 2; fax 206-766-5683; Internet https://www.myboeingfleet.

(7) You may review copies of the referenced service information at the FAA, Transport Airplane Directorate, 1601 Lind Avenue SW., Renton, WA. For information on the availability of this material at the FAA, call 425-227-1221.

(8) You may also review copies of the service information that is incorporated by reference at the National Archives and Records Administration (NARA). For information on the availability of this material at NARA, call 202-741-6030, or go to: http://www.archives.gov/federal-register/cfr/ibr_locations.html.

Issued in Renton, Washington, on September 11, 2012.
Ali Bahrami,
Manager, Transport Airplane Directorate, Aircraft Certification Service.

[FR Doc. 2012-23049 Filed 9-28-12; 8:45 am]

BILLING CODE 4910-13-P